DEPARTMENT OF DEFENSE

Office of the Secretary

[Transmittal Nos. 10-71]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 10-71 with attached transmittal, policy justification, and Sensitivity of Technology.

Dated: September 23, 2011.
Aaron Siegel,
Alternate OSD Federal Register Liaison Officer, Department of Defense.

BILLING CODE 5001-06-P

BILLING CODE 5001-06-C

Transmittal No. 10-71

Notice of Proposed Issuance of Letter of Offer Pursuant to Section 36(b)(1) of the Arms Export Control Act, as Amended

(i) Prospective Purchaser: Bahrain.

(ii) Total Estimated Value:

Major Defense Equipment* | $38 million.
Other | 15 million.
Total | 53 million.
* as defined in Section 47(6) of the Arms Export Control Act.

(iii) Description and Quantity or Quantities of Articles or Services under Consideration for Purchase: 44 M1152A1B2 Armored High Mobility Multi-Purpose Wheeled Vehicles (HMMWVs), 200 BGM-71E-4B-RF Radio Frequency (RF) Tube-Launched Optically-Tracked Wire-Guided Missiles (TOW-2A), 7 Fly-to-Buy RF TOW-2A Missiles, 40 BGM-71F-3-RF TOW-2B Aero Missiles, 7 Fly-to-Buy RF TOW-2B Aero Missiles, 50 BGM-71H-1RF Bunker Buster Missiles (TOW-2A), 7 Fly-to-Buy RF Bunker Buster Missiles (TOW-2A), 48 TOW-2 Launchers, AN/UAS-12A Night Sight Sets, spare and repair parts, support and test equipment, publications and technical documentation, personnel training and training equipment, U.S. Government and contractor engineering, technical and logistics support services, and other related elements of logistical and program support.

(iv) Military Department: Army (UJT).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: 14 Sep 2011.

Policy Justification

Bahrain—M1152A1B2 HMMVs and TOW-2A and TOW-2B Missiles

The Government of Bahrain has requested a possible sale of 44 M1152A1B2 Armored High Mobility Multi-Purpose Wheeled Vehicles (HMMWVs), 200 BGM-71E-4B-RF Radio Frequency (RF) Tube-Launched Optically-Tracked Wire-Guided Missiles (TOW-2A), 7 Fly-to-Buy RF TOW-2A Missiles, 40 BGM-71F-3-RF TOW-2B Aero Missiles, 7 Fly-to-Buy RF TOW-2B Aero Missiles, 50 BGM-71H-1RF Bunker Buster Missiles (TOW-2A), 7 Fly-to-Buy RF Bunker Buster Missiles (TOW-2A), 48 TOW-2 Launchers, AN/UAS-12A Night Sight Sets, spare and repair parts, support and test equipment, publications and technical documentation, personnel training and training equipment, U.S. Government and contractor engineering, technical and logistics support services, and other related elements of logistical and program support. The estimated cost is $53 million.

This proposed sale will contribute to the foreign policy and national security of the United States by helping to improve the security of a major non-NATO ally that has been, and continues to be, an important force for political stability and economic progress in the Middle East.

The proposed sale will improve Bahrain's capability to meet current and future armored threats. Bahrain will use the enhanced capability as a deterrent to regional threats and to strengthen its homeland defense.

The proposed sale of this equipment and support will not alter the basic military balance in the region.

The prime contractors will be AM General in South Bend, Indiana, and Raytheon Missile Systems Corporation in Tucson, Arizona. There are no known offset agreements proposed in connection with this potential sale.

Implementation of this proposed sale will not require the assignment of any additional U.S. Government or contractor representatives to Bahrain.

There will be no adverse impact on U.S. defense readiness as a result of this proposed sale.

Transmittal No. 10-71

Notice of Proposed Issuance of Letter of Offer Pursuant to Section 36(b)(1) of the Arms Export Control Act

Annex

Item No. vii

(vii) Sensitivity of Technology:

1. The Radio Frequency (RF) TOW 2A Missile (BGM-71E-4B-RF) is a direct attack missile designed to defeat armored vehicles, reinforced urban structures, field fortifications and other such targets. TOW missiles are fired from a variety of TOW launchers. The TOW 2A missile (both wire & RF) contains two tracker beacons (xenon and thermal) for the launcher to track and guide the missile in flight. Guidance commands from the launcher are provided to the missile by an RF link contained within the missile case. The hardware, software, and technical publications provided with the sale are Unclassified. However, the system itself contains sensitive technology that instructs the system on how to operate in the presence of countermeasures.

2. The Radio Frequency (RF) TOW 2B Aero Missile (BGM-71F-3-RF) is a direct attack missile designed to defeat armored vehicles, reinforced urban structures, field fortifications, and other such targets. The TOW 2B features a dual-mode sensor and an armament section equipped with two warheads different from those used in other TOW versions. The TOW 2B is designed to fly over the top of a tank, where it is less heavily armored, and destroy it from above by simultaneously detonating the missile's two explosively formed penetrator warheads downward. The fly-over shoot-down flight profile permits the attack of targets in defilade, protected by berms or other fortifications. The extended range of the TOW 2B Aero was accomplished with minor modifications to the TOW 2B. The new aerodynamic feature ensures stable controllable flight to 4.5 kilometers while using the current propulsion system. The TOW 2B Aero, with its longer range and faster time to target, increases battle space and allows commanders the ability to better shape the battlefield.

3. If a technologically advanced adversary were to obtain knowledge of the specific hardware and software elements, the information could be used to develop countermeasures which might reduce weapon system effectiveness or be used in the development of a system with similar or advanced capabilities.

[FR Doc. 2011-25014 Filed 9-28-11; 8:45 am]

BILLING CODE 5001-06-P